DEPARTMENT OF ENERGY

Federal Energy Regulatory Commission

[Docket No. RP03-258-000]

Iroquois Gas Transmission System, L.P.; Notice of Proposed Changes in FERC Gas Tariff

February 20, 2003.

Take notice that on February 14, 2003, Iroquois Gas Transmission System, L.P. (Iroquois) tendered for filing as part of its FERC Gas Tariff, First Revised Volume No. 1, the following tariff sheets, proposed to become effective March 14, 2003:

Tenth Revised Sheet No. 4A.

Eighth Revised Sheet No. 58.

Eighth Revised Sheet No. 59.

First Revised Sheet No. 60E.

Fifth Revised Sheet No. 67.

Original Sheet No. 4B.

First Revised Sheet No. 58A.

Original Sheet No. 60D.0l.

Third Revised Sheet No. 66A.

Iroquois states that the purpose of the tariff changes is to implement a new Extended Receipt and Extended Delivery Point Service, which would extend, on a secondary basis, a shipper's existing firm transportation path to downstream or upstream zones.

Iroquois further states that copies of its filing were served on all jurisdictional customers and interested state regulatory agencies and all parties to the proceeding.

Any person desiring to be heard or to protest said filing should file a motion to intervene or a protest with the Federal Energy Regulatory Commission, 888 First Street, NE., Washington, DC 20426, in accordance with sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: February 26, 2003.

Magalie R. Salas,
Secretary.

[FR Doc. 03-4471 Filed 2-25-03; 8:45 am]

BILLING CODE 6717-01-P